DEPARTMENT OF ENERGY

Western Area Power Administration

Interconnection of the Grapevine Canyon Wind Project, Coconino County, AZ

AGENCY: Western Area Power Administration, DOE.

ACTION: Notice of Intent to Prepare an Environmental Impact Statement/Environmental Impact Report and Conduct Scoping Meetings; Notice of Floodplain and Wetlands Involvement.

SUMMARY: The Western Area Power Administration (Western), an agency of the DOE, intends to prepare an environmental impact statement (EIS) on the interconnection of the Grapevine Canyon Wind Project (Project) in Coconino County, near Flagstaff, Arizona. Foresight Flying M, LLC (Foresight) has applied to Western to interconnect the proposed Project to Western's power transmission system on its Glen Canyon-Pinnacle Peak Transmission Line. Western is issuing this notice to inform the public and interested parties about Western's intent to prepare an EIS, conduct a public scoping process, and invite the public to comment on the scope, proposed action, alternatives, and other issues to be addressed in the EIS.

The EIS will address Western's Federal action of interconnecting the proposed Project to Western's transmission system and making any necessary modifications to Western facilities to accommodate the interconnection. The EIS will also review the potential environmental impacts of constructing, operating, and maintaining Foresight's wind generation facility and associated facilities, including access roads, collection and feeder lines, step-up substation, communications system, transmission tie-line, and switchyard.

DATES: The public scoping period begins with the publication of this notice and closes on August 28, 2009. Public scoping meetings will be held on August 10 and 11, 2009.

ADDRESSES: Please see the SUPPLEMENTARY INFORMATION section for scoping meeting locations. Written comments on the scope of the EIS should be addressed to Ms. Mary Barger, National Environmental Policy Act (NEPA) Document Manager, Western Area Power Administration, Desert Southwest Region, P.O. Box 6457, 615 S. 43rd Avenue, Phoenix, AZ 85005 or GrapevineWindEIS@wapa.gov.

FOR FURTHER INFORMATION CONTACT: Ms. Mary Barger, NEPA Document Manager, Western Area Power Administration, Desert Southwest Region, P.O. Box 6457, 615 S. 43rd Avenue, Phoenix, AZ 85005, telephone (602) 605-2524, fax (602) 605-2630, or e-mail GrapevineWindEIS@wapa.gov. For general information on DOE's NEPA review procedures or status of a NEPA review, contact Ms. Carol M. Borgstrom, Director of NEPA Policy and Compliance, GC-20, U.S. Department of Energy, 1000 Independence Avenue, SW., Washington, DC 20585, telephone (202) 586-4600 or (800) 472-2756.

SUPPLEMENTARY INFORMATION: Western, an agency within DOE, markets Federal hydroelectric power to preference customers, as specified by law. These customers include municipalities, cooperatives, irrigation districts, Federal and State agencies, and Native American tribes. Western's service territory covers 15 western states, including Arizona. Western owns and operates more than 17,000 miles of high-voltage transmission lines.

Foresight has applied to Western to interconnect the proposed Project at a new switchyard on Western's Glen Canyon-Pinnacle Peak Transmission Line. Western offers capacity on its transmission system to deliver electricity, when such capacity is available, under Western's Open Access Transmission Service Tariff.

Foresight also has applied to the U.S. Forest Service for a permit to build, operate, and maintain a portion of the proposed project on Coconino National Forest land. Additionally, Foresight is subject to State and local approvals prior to building the proposed Project, including the following: a Certificate of Environmental Compatibility from the Arizona Corporate Commission, right of way from the Arizona State Land Department, and a Conditional Use Permit from Coconino County.

Project Description

Foresight proposes to construct a wind energy generation project up to 500 megawatts (MW). It would occupy approximately 55 square miles in Coconino County, Arizona. The wind generation component of the proposed Project would be located about 22 miles southeast of Flagstaff and about18 miles south of the Twin Arrows Interstate-40 interchange. It would be located within the Pinyon-Juniper Woodland Ecozone of the Colorado Plateau Semi-Desert Province in the northeastern quarter of Arizona. The area has primarily pinyon-juniper and desert scrub vegetation types. The current land use is agricultural, primarily livestock grazing. Each wind turbine would involve the disturbance of about 1.0 to 1.6 acres.

The wind generation component of the proposed Project would be constructed on private lands and land administered by the Arizona State Land Department. The proposed Project would generate electricity from wind turbine generators rated at 1.5 to 3.0 MW. Final turbine selection and size is subject to further wind analysis, and will determine the number of turbines. Each turbine would have three blades that would revolve at less than approximately 18 revolutions per minute. Each blade would measure 125 to 185 feet long. The single pole structures supporting each of the turbines would be up to 325 feet high and approximately 20 feet in diameter at the base. Each turbine structure would be up to approximately 500 feet high, when a blade is in the 12 o'clock position. Each would be installed on a concrete base, and would have a pad-mounted transformer near the base. Lighting would be in accordance with Federal Aviation Administration requirements.

There would be an all-weather service road constructed to each turbine location. The wind turbines would be connected by an electrical collection system, power collection circuits, and a communications network. This collection system would be buried, where feasible, in areas without major subsurface obstructions. Foresight would site the wind turbine generators to optimize wind and land resources in the area while minimizing environmental impacts to the extent practicable. Foresight would comply with local zoning requirements, including setbacks from residences, roads, and existing transmission and distribution lines. Foresight would begin construction on the proposed Project approximately fall 2010. The life of the proposed Project is anticipated to be a minimum of 30 years.

To support delivery of the power generated by the Project, Foresight proposes to build a new 345-kV transmission tie-line, approximately 9 miles in length, to a new 345-kV switchyard, located immediately adjacent to Western's existing Glen Canyon-Pinnacle Peak Transmission Line. The transmission tie-line would cross lands administered by Coconino National Forest. The right-of-way for the transmission line would be about 8.5 miles in length by 200 feet wide, for a total disturbance area of about 206 acres. The physical area affected by the new switchyard would be about 10 acres. The proposed Project area would be accessed by an existing road about 18 miles in length that would require some realignment for construction activities.

Proposed Agency Action and Alternatives

Western's proposed action is to interconnect the proposed Project to Western's transmission system. The U.S. Forest Service's proposed action is to grant a permit for the transmission line to cross Federal lands and for associated road improvements. Any additional action alternatives identified will be analyzed in the EIS.

Western will also consider the no-action alternative in the EIS. Under the no-action alternative Western would not interconnect and/or the U.S. Forest Service would not issue a permit.

Agency Responsibilities

Because interconnection of the proposed Project would incorporate a major new generation resource into Western's power transmission system, Western has determined that an EIS is required under DOE NEPA implementing procedures, 10 CFR part 1021, subpart D, Appendix D, class of action D6. Western will be the lead Federal agency for preparing the EIS, as defined at 40 CFR 1501.5. The proposed Project includes construction of a tie-line across Coconino National Forest land, for which the U.S. Forest Service has jurisdiction and has agreed to be a cooperating agency for preparation of the EIS. Western will invite other Federal, State, local, and tribal agencies with jurisdiction by law or special expertise with respect to environmental issues to be cooperating agencies on the EIS, as defined at 40 CFR 1501.6. Such agencies may also make a request to Western to be a cooperating agency by contacting Ms. Barger at the address listed above in the ADDRESSES section.

The proposed Project may affect floodplains or wetlands. This notice also serves as notice of proposed floodplain or wetland action, in accordance with 10 CFR part 1022.

Environmental Issues

This notice is to inform agencies and the public of Western's intent to prepare an EIS and solicit comments and suggestions for consideration in the EIS. To help the public frame its comments, the following list contains potential environmental issues preliminarily identified for analysis in the EIS:

1. Impacts on protected, threatened, endangered, or sensitive species of animals or plants.

2. Impacts on avian and bat species.

3. Impacts on land use, recreation, and transportation.

4. Impacts on cultural or historic resources and tribal values.

5. Impacts on human health and safety.

6. Impacts on air, soil, and water resources (including air quality and surface water impacts).

7. Visual impacts.

8. Socioeconomic impacts and disproportionately high and adverse impacts to minority and low-income populations.

This list is not intended to be all-inclusive or to imply any predetermination of impacts. Western invites interested parties to suggest specific issues within these general categories, or other issues not included above, to be considered in the EIS.

Public Participation

The EIS process includes a public scoping period; public review and hearings on the draft EIS; publication of a final EIS; and publication of a record of decision (ROD). The public scoping period begins with publication of this notice and closes August 28, 2009. At the conclusion of the NEPA process, Western and the U.S. Forest Service will each prepare a ROD. Persons interested in receiving future notices, Project information, copies of the EIS, and other information on the NEPA review process should contact Ms. Barger at the address listed above in the ADDRESSES section.

Western will hold public scoping meetings as follows:

1. August 10, 2009, Mormon Lake Fire Station, 43 Mormon Lake Road, Mormon Lake, AZ 86038.

2. August 11, 2009, Northern Arizona Center for Emerging Technologies (NACET), 2225 N. Gemini Drive, Flagstaff, AZ 86001.

Each meeting is scheduled for 6-8 p.m. with an open-house format, during which attendees are invited to speak one-on-one with agency and Project representatives. Project presentations will be given at 6:15 and 7:30 p.m. Attendees are welcome to come and go at their convenience throughout the meeting.

The purpose of the scoping meetings is to provide information about the proposed Project, review Project maps, answer questions, and take written comments from interested parties. All meeting locations are handicapped-accessible. Anyone needing special accommodations should contact Ms. Barger to make arrangements.

The public will have the opportunity to provide written comments at the public scoping meetings, or send them to Western by fax, e-mail, or U.S. Postal Service mail. To help define the scope of the EIS, comments should be received by Western no later than August 28, 2009.

Dated: July 15, 2009.
Timothy J. Meeks,
Administrator.

[FR Doc. E9-17700 Filed 7-23-09; 8:45 am]

BILLING CODE 6450-01-P